DEPARTMENT OF HOUSING AND URBAN DEVELOPMENT

[Docket No. FR-4579-FA-23]

Announcement of Funding Award for Fiscal Year 2003 to the Housing Assistance Council

AGENCY: Office of the Assistant Secretary for Policy Development and Research, HUD.

ACTION: Announcement of funding award.

SUMMARY: In accordance with section 102(a)(4)(C) of the Department of Housing and Urban Development Reform Act of 1989, this document notifies the public of an award for Fiscal Year 2003 to the Housing Assistance Council.

FOR FURTHER INFORMATION CONTACT: Patrick J. Tewey, Director, Budget, Contracts and Program Control Division, Office of Policy Development and Research, Room 8230, 451 7th Street SW., Washington, DC 20410-6000, telephone (202) 708-1796, extension 4098. To provide service for persons who are hearing-or-speech-impaired, this number may be reached via TTY by dialing the Federal Information Relay Service on 1-800-877-TTY, 1-800-877-8339, or (202) 708-1455. (Telephone numbers other than “800” TTY numbers are not toll free.)

SUPPLEMENTARY INFORMATION: The Consolidated Appropriations Resolution of 2003 (Pub. L. 108-7) earmarked $3,278,550 for a grant to the Housing Assistance Council. HUD's Office of Policy Development and Research administers this grant.

The Catalog of Federal Domestic Assistance for these grants is 14.225

In accordance with section 102(a)(4)(C) of the Department of Housing and Urban Development Reform Act of 1989 (103 Stat. 1987, 42 U.S.C. 3545), the Department is publishing details concerning this award, as follows:

Housing Assistance Council, Moises Loza, Executive Director, 1025 Vermont Avenue, NW., Suite 606, Washington, DC 20005, Grant #H-21354CA, “Rural Housing Research and Technical Assistance” Amount $3,278,550, Date Awarded 10/01/02.

Dated: November 6, 2003.
Darlene F. Williams,
General Deputy Assistant Secretary, Office of Policy Development and Research.

[FR Doc. 03-30318 Filed 12-5-03; 8:45 am]

BILLING CODE 4210-62-P